DEPARTMENT OF ENERGY

National Nuclear Security Administration

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under the Agreement for Co-operation between the Government of the United States of America and the Swiss Federal Council Concerning the Peaceful Uses of Nuclear Energy.

DATES: This subsequent arrangement will take effect no sooner than May 28, 2019.

FOR FURTHER INFORMATION CONTACT: Mr. Sean Oehlbert, Office of Nonproliferation and Arms Control, National Nuclear Security Administration, Department of Energy. Telephone: 202-586-3806 or email: sean.oehlbert@nnsa.doe.gov.

SUPPLEMENTARY INFORMATION: This proposed subsequent arrangement concerns the addition of the United Kingdom of Great Britain and Northern Ireland (the United Kingdom) to the list of countries in Annex 1 of the Agreement for Co-operation between the Government of the United States of America and the Swiss Federal Council Concerning Peaceful Uses of Nuclear Energy, done at Berne on October 31, 1997 (the Agreement). Pursuant to paragraph B of the Agreed Minute to the Agreement, states or groups of states identified in Annex 1 to the Agreed Minute are eligible to receive retransfers from Switzerland of source material, low enriched uranium, moderator material, and equipment subject to Article 7 of the Agreement. The United Kingdom will be eligible to receive such retransfers upon entry into force of the Agreement between the Government of the United States of America and the Government of the United Kingdom of Great Britain and Northern Ireland for Cooperation in Peaceful Uses of Nuclear Energy.

Pursuant to the authority in section 131 a. of the Atomic Energy Act of 1954, as delegated, I have determined that this proposed subsequent arrangement will not be inimical to the common defense and security of the United States of America.

Dated: April 30, 2019.
For the Department of Energy.
Brent K. Park,
Deputy Administrator, Defense Nuclear Nonproliferation.

[FR Doc. 2019-09679 Filed 5-9-19; 8:45 am]

BILLING CODE 6450-01-P